DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 21, 2007.

Interested persons are invited to submit written comments regarding the subject matter of the investigations to the Director, Division of Trade Adjustment Assistance, at the address shown below, not later than May 21, 2007.

The petitions filed in this case are available for inspection at the Office of the Director, Division of Trade Adjustment Assistance, Employment and Training Administration, U.S. Department of Labor, Room C-5311, 200 Constitution Avenue, NW., Washington, DC 20210.

Signed at Washington, DC, this 1st day of May 2007.
Ralph Dibattista,
Director, Division of Trade Adjustment Assistance.

Appendix
[TAA petitions instituted between 4/23/07 and 4/27/07]
TA-W | Subject firm (petitioners) | Location | Date of institution | Date of petition
61350 | Amsea Inc./RSD Technologies (Wkrs) | Fenton, MI | 04/23/07 | 04/01/07
61351 | Low Country Cotton Service, LLP (29609) | Greenville, SC | 04/23/07 | 04/11/07
61352 | SSA/Cooper, LLC (Wkrs) | Georgetown, SC | 04/23/07 | 04/12/07
61353 | Skip's Cutting Inc. (Comp) | Ephrata, PA | 04/23/07 | 04/20/07
61354 | J.A.M. Plastics, Inc. (Wkrs) | Anaheim, CA | 04/23/07 | 04/14/07
61355 | Texas Instruments Incorporated (Comp) | Dallas, TX | 04/23/07 | 04/18/07
61356 | Nokia Mobile Phone Inc/USA/Ft. Worth TX/Alliance(Wkrs) | Ft. Worth, TX | 04/23/07 | 04/16/07
61357 | Medtronic Vascular(State) | Santa Rosa, CA | 04/23/07 | 04/20/07
61358 | Masonite Door Fabrication Services(Union) | Toledo, OH | 04/23/07 | 04/15/07
61359 | Bayer Clothing Group Inc.(Comp) | MacClenny, FL | 04/23/07 | 03/29/07
61360 | Bayer Clothing Group, Inc.(Comp) | New York, NY | 04/23/07 | 03/29/07
61361 | Bayer Clothing Group, Inc.(Comp) | Atlanta, GA | 04/23/07 | 03/29/07
61362 | Bayer Clothing Group Inc.,Target Sales Corporation(Comp) | Naperville, IL | 04/23/07 | 03/29/07
61363 | Methode Electronics(Wkrs) | Carthage, IL | 04/23/07 | 04/16/07
61364 | CyOptics, Inc.(Comp) | Breingsville, PA | 04/24/07 | 04/23/07
61365 | Ingersol-Rand Corp/Hussmann Refrigeration(USW) | Bridgeton, MS | 04/24/07 | 04/17/07
61366 | Staples Inc.(Wkrs) | Framingham, MA | 04/24/07 | 04/18/07
61367 | Air System Components, Inc.(Comp) | El Paso, TX | 04/24/07 | 04/20/07
61368 | Kraft Foods ( Post Cereal Div.)(Union) | Battle Creek, MI | 04/24/07 | 04/12/07
61369 | Wood Tech Enterprises, Inc.(Comp) | Fairview, NC | 04/25/07 | 04/24/07
61370 | Federal Mogul Corporation(State) | Dumas, AR | 04/25/07 | 04/24/07
61371 | Grand Marais Investor Inc.(Comp) | Traverse City, MI | 04/25/07 | 04/09/07
61372 | Rockwell Collins(Wkrs) | Tustin, CA | 04/25/07 | 04/16/07
61373 | Autolign Manufacturing Group, Inc.(State) | Milan, MI | 04/25/07 | 04/23/07
61374 | Seaswirl Boats, Inc.(State) | Culver, OR | 04/25/07 | 04/22/07
61375 | Wire Products, Inc.(State) | Lavaca, AR | 04/25/07 | 04/23/07
61376 | Topy America(Wkrs) | Frankfort, KY | 04/25/07 | 04/23/07
61377 | Mereen-Johnson Machine Company(State) | Minneapolis, MN | 04/25/07 | 04/24/07
61378 | Applied Biotech, Inc.(92121) | San Diego, CA | 04/26/07 | 04/24/07
61379 | Chromalox, Inc.(Comp) | Albany, WI | 04/26/07 | 04/25/07
61380 | Briggs and Stratton Corporation(Wkrs) | Murray, KY | 04/26/07 | 03/30/07
61381 | Distel Tool & Machine Company(Comp) | Warren, MI | 04/26/07 | 04/24/07
61382 | Tandem Enterprises, Inc.(Comp) | Weslaco, TX | 04/26/07 | 04/15/07
61383 | Kasle Steel Corporation(Wkrs) | Dearborn, MI | 04/26/07 | 04/19/07
61384 | Collezione Europa, USA(Wkrs) | Claremont, NC | 04/26/07 | 04/22/07
61385 | A.C. Nielsen Company(Wkrs) | Fond du Lac, WI | 04/26/07 | 04/24/07
61386 | Berkline/Benchcraft LLC(State) | Livingston, TN | 04/26/07 | 04/25/07
61387 | Yamaha Music Manufacturing, Inc.(Comp) | Thomaston, GA | 04/26/07 | 04/11/07
61388 | Domtar(Union) | Baileyville, ME | 04/27/07 | 04/20/07
61389 | Vaungarde Acquisition LLC(Wkrs) | Owosso, MI | 04/27/07 | 04/18/07
61390 | Kyowa America Corporation(Wkrs) | Waynesburg, PA | 04/27/07 | 04/28/07
61391 | B Braun(State) | San Juan, PR | 04/27/07 | 04/23/07
61392 | Shadowline, Incorporated(Comp) | Morganton, NC | 04/27/07 | 04/26/07

[FR Doc. E7-8822 Filed 5-8-07; 8:45 am]

BILLING CODE 4510-FN-P